DEPARTMENT OF COMMERCE

Foreign-Trade Zones Board

[Order No. 1690]

Termination of Foreign-Trade Subzone 39J Lewisville, TX

Pursuant to the authority granted in the Foreign-Trade Zones Act of June 18, 1934, as amended (19 U.S.C. 81a-81u), and the Foreign-Trade Zones Board Regulations (15 CFR part 400), the Foreign-Trade Zones Board has adopted the following order:

Whereas, on December 4, 2008, the Foreign-Trade Zones Board issued a grant of authority to the Dallas/Fort Worth International Airport Board (grantee of FTZ 39) authorizing the establishment of Foreign-Trade Subzone 39J at The Apparel Group facility in Lewisville, Texas (Board Order 1592, 73 FR 79049, 12/24/08);

Whereas, subzone status is no longer needed at the facility due to changed circumstances and the grantee concurs with the termination of Subzone 39J (FTZ Docket 40-2010);

Whereas, the proposal has been reviewed by the FTZ Staff and Customs and Border Protection officials, and approval has been recommended;

Now, therefore, the Foreign-Trade Zones Board terminates the subzone status of Subzone 39J, effective this date.

Signed at Washington, DC, June 8, 2010.
Paul Piquado,
Acting Deputy Assistant Secretary for Import Administration, Alternate Chairman, Foreign-Trade Zones Board.

[FR Doc. 2010-16663 Filed 7-7-10; 8:45 am]

BILLING CODE P